DEPARTMENT OF LABOR

Employment and Training Administration

[TA-W-41,871 and 871A]

Harvard Industries, Inc., Albion Division, Albion, Michigan and Harvard Industries, Inc., Corporate Headquarters, Lebanon, New Jersey; Amended Certification Regarding Eligibility To Apply for Worker Adjustment Assistance

In accordance with section 223 of the Trade Act of 1974 (19 U.S.C. 2273) the Department of Labor issued a Notice of Certification Regarding Eligibility to Apply for Worker Adjustment Assistance on September 10, 2002, applicable to workers of Harvard Industries, Inc., Albion Division, Albion, Michigan. The notice was published in the Federal Register on September 27, 2002 (67 FR 61161).

At the request of the State agency, the Department reviewed the certification for workers of the subject firm. The company reports that worker separations occurred at the Corporate Headquarters located in Lebanon. New Jersey. The workers at the Lebanon, New Jersey location provide support services (legal, payroll, human resources, tax, etc.) supporting the production of auto parts, castings and stampings at the Albion Division, Albion, Michigan facility of the subject firm.

Based on these findings, the Department is amending the certification to include workers of Harvard Industries, Inc., Corporate Headquarters, Lebanon, New Jersey.

The intent of the Department's certification is to include all workers of Harvard Industries, Albion Division, who were adversely affected by increased customer imports.

The amended notice applicable to TA-W-41,871 is hereby issued as follows:

“All workers of Harvard Industries, Inc., Albion Division, Albion, Michigan (TA-W-41,871), and Harvard Industries, Inc., Corporate Headquarters, Lebanon, New Jersey (TA-W-41,871A), who became totally or partially separated from employment on or after June 27, 2001, through September 10, 2004, are eligible to apply for adjustment assistance under Section 223 of the Trade Act of 1974.”

Signed at Washington, DC, this 17th day of January 2003.
Linda G. Poole,
Certifying Officer, Division of Trade Adjustment Assistance.

[FR Doc. 03-2850 Filed 2-5-03; 8:45 am]

BILLING CODE 4510-30-U